DEPARTMENT OF ENERGY

Federal Energy Regulatory Commission

Combined Notice of Filings # 1

November 14, 2006.

Take notice that the Commission received the following electric corporate filings:

Docket Numbers: EC07-15-000.

Applicants: Delta Person Limited Partnership; Lowell Cogeneration Company; Vineland Energy LLC; Delta Power Company, LLC; Delta Power Holdings, LLC; Arroyo DP Holding LP.

Description: Delta Person Limited Partnership et al submit an application for authorization of indirect disposition of jurisdictional facilities.

Filed Date: 11/03/2006.

Accession Number: 20061109-0071

Comment Date: 5 p.m. Eastern Time on Friday, November 24, 2006.

Docket Numbers: EC07-16-000; ER01-2398-014.

Applicants: Liberty Electric Power, LLC.

Description: Liberty Electric Power, LLC submits its application for authorization for disposition of jurisdictional facilities and notice of change on status.

Filed Date: 11/07/2006.

Accession Number: 20061113-0006.

Comment Date: 5 p.m. Eastern Time on Tuesday, November 28, 2006.

Take notice that the Commission received the following electric rate filings:

Docket Numbers: ER97-4257-012; ER97-4257-013.

Applicants: Mid-Power Service Corporation.

Description: Mid-Power Service Corp submits its Updated Market Analysis for the period ended 9/30/06 and to inform the Commission of a no change in status for that period.

Filed Date: 11/08/2006.

Accession Number: 20061114-0063.

Comment Date: 5 p.m. Eastern Time on Wednesday, November 29, 2006.

Docket Numbers: ER02-2397-005; ER03-796-005; ER05-118-003; ER05-131-003; ER05-454-003; ER06-1446-001; ER06-642-002; ER06-643-001; ER06-784-001.

Applicants: Great Lakes Hydro America, LLC; Katahdin Paper Company LLC; Carr Street Generating Station, L.P.; Erie Boulevard Hydropower, L.P.; Bear Swamp Power Company LLC; Hawks Nest Hydro LLC; Brookfield Power Piney & Deep Creek LLC; Brookfield Energy Marketing Inc.; Rumford Falls Hydro LLC.

Description: Bear Swamp Power Co, LLC et al submit a Notice of Change in Status.

Filed Date: 11/03/2006.

Accession Number: 20061109-0174.

Comment Date: 5 p.m. Eastern Time on Friday, November 24, 2006.

Docket Numbers: ER03-478-014; ER03-951-010; ER03-416-011; ER04-94-008; ER03-296-010; ER05-534-008; ER05-365-008; ER01-3121-009; ER02-418-008; ER05-332-008; ER06-1-006; ER02-417-008; ER05-1146-008; ER06-200-007; ER05-481-008; ER03-1326-007; ER05-1262-005; ER06-1093-001.

Applicants: PPM Energy Inc.; Moraine Wind LLC; Klondike Wind Power LLC; Mountain View Power Partners III, LLC; Flying Cloud Power Partners, LLC; Eastern Desert Power LLC; Elk River Windfarm LLC; Klamath Energy LLC; Klamath Generation LLC; Klondike Wind Power II LLC; Leaning Juniper Wind Power, LLC; Phoenix Wind Power LLC; Shiloh I Wind Project LLC; Big Horn Wind Project LLC; Trimont Wind I LLC; Colorado Green Holdings, LLC; Flat Rock Windpower LLC; Flat Rock Windpower II LLC.

Description: PPM Energy, Inc et al submit a notice of a change in status as a result of the acquisition of an interest in an affiliate of PPM by JPM Capital Corp.

Filed Date: 11/09/2006.

Accession Number: 20061114-0059.

Comment Date: 5 p.m. Eastern Time on Thursday, November 30, 2006.

Docket Numbers: ER04-928-003.

Applicants: Pacific Gas & Electric Company.

Description: Pacific Gas and Electric Company submits a revised template for the City of Santa Clara, Silicon Valley Power Grizzly Development et al Settlement Agreement.

Filed Date: 11/08/2006.

Accession Number: 20061108-5031.

Comment Date: 5 p.m. Eastern Time on Wednesday, November 29, 2006

Docket Numbers: ER06-18-005.

Applicants: Midwest Independent Transmission System Operator, Inc.

Description: Midwest Independent Transmission System Operator Inc submits proposed revisions to its Open Access Transmission and Energy Markets Tariff, pursuant to the Commission's 2/3/06 order.

Filed Date: 11/08/2006.

Accession Number: 20061113-0003.

Comment Date: 5 p.m. Eastern Time on Wednesday, November 29, 2006.

Docket Numbers: ER06-1358-001.

Applicants: Midwest Independent Transmission System Operator, Inc.

Description: Midwest Independent Transmission System Operator Inc submits proposed compliance revisions to Attachment N-1 of its Open Access Transmission and Energy Markets Tariff, pursuant to the Commission's 10/10/06 order.

Filed Date: 11/09/2006.

Accession Number: 20061114-0065.

Comment Date: 5 p.m. Eastern Time on Thursday, November 30, 2006.

Docket Numbers: ER06-1519-001.

Applicants: Midwest Independent Transmission System Operator, Inc.

Description: Midwest Independent Transmission System Operator Inc submits an amendment to its 9/26/06 filing of the Transmission Interconnection Agreement, Service Agreement No. 1759, Third Revised Volume No. 1.

Filed Date: 11/08/2006.

Accession Number: 20061113-0002.

Comment Date: 5 p.m. Eastern Time on Wednesday, November 29, 2006.

Docket Numbers: ER07-175-000.

Applicants: ISO New England Inc.; New England Power Pool. Participants Committee.

Description: ISO New England Inc & New England Power Pool Participants Committee submits a joint changes to Market Rule 1 that revise the deadlines for including transmission & generation resources in the network assumptions used to calculate the Locational Forward Reserve Market Auction requirements.

Filed Date: 11/03/2006.

Accession Number: 20061108-0043.

Comment Date: 5 p.m. Eastern Time on Monday, November 27, 2006.

Docket Numbers: ER07-188-000. ER07-189-000; ER07-190-000; ER07-191-000; ER07-192-000.

Applicants: Duke Energy Carolinas, LLC; Duke Energy Indiana, Inc.; Duke Energy Kentucky, Inc.; Duke Energy Ohio, Inc.; Duke Energy Shared Services, Inc.

Description: Duke Energy Carolinas, LLC et al submits Notices of Succession, tariffs, rate schedules, service agreements to reflect new names, and a notice of cancellation.

Filed Date: 11/09/2006.

Accession Number: 20061031-4017.

Comment Date: 5 p.m. Eastern Time on Wednesday, November 29, 2006.

Docket Numbers: ER07-193-000.

Applicants: Desert Generation & Trans Co-operative, Inc.

Description: Deseret Generation and Transmission Co-operative, Inc submits its proposed Wholesale Power Contract Supplemental Rate Rebate to Service Agreement 1—6, FERC Electric Tariff, Original Volume 1.

Filed Date: 11/08/2006.

Accession Number: 20061113-0001.

Comment Date: 5 p.m. Eastern Time on Wednesday, November 29, 2006.

Docket Numbers: ER07-194-000.

Applicants: Idaho Power Company.

Description: Idaho Power Co submits its Tenth Revised Sheet 28 to the Transmission Services Agreement with the City of Seattle, City Light Department.

Filed Date: 11/09/2006.

Accession Number: 20061114-0061.

Comment Date: 5 p.m. Eastern Time on Thursday, November 30, 2006.

Docket Numbers: ER07-195-000.

Applicants: Locust Ridge Wind Farm, LLC.

Description: Locust Ridge Wind Farm, LLC submits an application for order accepting market-based rate tariff for filing and granting waivers and blanket approvals, FERC Electric Tariff, 1.

Filed Date: 11/09/2006.

Accession Number: 20061114-0062.

Comment Date: 5 p.m. Eastern Time on Thursday, November 30, 2006.

Docket Numbers: ER07-196-000.

Applicants: Pinpoint Power, LLC.

Description: Pinpoint Power, LLC submits its Amended and Restated Agreement for Supplemental Installed Capacity Southwest Connecticut with ISO New England, Inc.

Filed Date: 11/09/2006.

Accession Number: 20061114-0060.

Comment Date: 5 p.m. Eastern Time on Thursday, November 30, 2006.

Docket Numbers: ER07-198-000.

Applicants: Highland Energy.

Description: Highland Energy LLC submits a Petition for Market Based Rate Authority, Request for Waivers and Blanket Approvals, designated as FERC Electric Tariff, Original Volume 1.

Filed Date: 11/08/2006.

Accession Number: 20061114-0064.

Comment Date: 5 p.m. Eastern Time on Wednesday, November 29, 2006.

Take notice that the Commission received the following public utility holding company filings:

Docket Numbers: PH07-5-000.

Applicants: International Transmission Holdings LP.

Description: Joint Waiver Notification of FERC 65B of International Transmission Holdings Limited Partnership, et al. under PH07-5.

Filed Date: 11/09/2006.

Accession Number: 20061109-5079.

Comment Date: 5 p.m. Eastern Time on Thursday, November 30, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19698 Filed 11-21-06; 8:45 am]

BILLING CODE 6717-01-P